DEPARTMENT OF TRANSPORTATION

Federal Aviation Administration

Notice of Opportunity for Public Comment on Surplus Property Release at Harnett Regional Jetport, NC

AGENCY: Federal Aviation Administration (FAA), DOT.

ACTION: Notice.

SUMMARY: Under the provisions of Title 49, U.S.C. 47153(c), notice is being given that the FAA is considering a request from the Harnett Regional Jetport Administrator to waive the requirement that approximately 9.54 acres of airport property, located at the Harnett Regional Jetport, be used for aeronautical purposes.

DATES: Comments must be received on or before November 28, 2012.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the FAA must be mailed or delivered to Barry Blevins, Airport Administrator, Harnett Regional Jetport, at the following address: Harnett Regional Jetport, PO Box 65, Lillington, NC 27546.

FOR FURTHER INFORMATION CONTACT: Rusty Nealis, Program Manager, Atlanta Airports District Office, 1701 Columbia Ave., Campus Building, Suite 2-260, Atlanta, GA 30337-2747, (404)305-7142. The application may be reviewed in person at this same location.

SUPPLEMENTARY INFORMATION: The FAA is reviewing a request by the Harnett Regional Jetport Administrator to release approximately 9.54 acres of airport property at the Harnett Regional Jetport. The property consists of one parcel located adjacent to the Harnett Regional Jetport and between Airport Road and Old Stage Road. This property is currently shown on the approved Airport Layout Plan as non-aeronautical use land and the proposed use of this property is compatible with airport operations. The County will sell the property for woodland or cropland use with proceeds of the sale providing funding for future airport development.

Any person may inspect the request in person at the FAA office listed above under FOR FURTHER INFORMATION CONTACT. In addition, any person may, upon request, inspect the request, notice and other documents germane to the request in person at the Harnett Regional Jetport.

Issued in Atlanta, Georgia on October 12, 2012.
Scott L. Seritt,
Manager, Atlanta Airports District Office, Southern Region.

[FR Doc. 2012-26317 Filed 10-26-12; 8:45 am]

BILLING CODE 4910-13-M